DEPARTMENT OF COMMERCE

Foreign-Trade Zones Board

[Order No. 1820]

Approval for Expansion of Manufacturing Authority, Foreign-Trade Subzone 78A, Nissan North America, Inc. (Electric Passenger Vehicles), Smyrna and Decherd, TN

Pursuant to its authority under the Foreign-Trade Zones Act of June 18, 1934, as amended (19 U.S.C. 81a-81u), the Foreign-Trade Zones Board (the Board) adopts the following Order:

Whereas, Nissan North America, Inc. (NNA), operator of Subzone 78A, at the NNA manufacturing facilities in Smyrna and Decherd, Tennessee, has requested an expansion of the scope of manufacturing authority to include new finished products (FTZ Docket 39-2011, filed 6-7-2011);

Whereas, notice inviting public comment has been given in the Federal Register (76 FR 34203, 6-13-2011) and the application has been processed pursuant to the FTZ Act and the Board's regulations; and

Whereas, the Board adopts the findings and recommendations of the examiner's report, and finds that the requirements of the FTZ Act and Board's regulations are satisfied, and that the proposal is in the public interest;

Now, therefore, the Board hereby orders:

The application to expand scope of FTZ manufacturing authority to include new finished products, as described in the application and Federal Register notice, is approved, subject to the FTZ Act and the Board's regulations, including Section 400.28.

Signed at Washington, DC, this 8th day of March 2012.
Paul Piquado,
Assistant Secretary of Commerce for Import Administration, Alternate Chairman, Foreign-Trade Zones Board.
Attest:
Andrew McGilvray,
Executive Secretary.

[FR Doc. 2012-6819 Filed 3-20-12; 8:45 am]

BILLING CODE P